DEPARTMENT OF ENERGY

Notice of Extension of Time to Submit Scoping Comments on the Programmatic Environmental Impact Statement for the Global Nuclear Energy Partnership

AGENCY: Office of Nuclear Energy, U.S. Department of Energy.

ACTION: Notice of extension of time to submit scoping comments.

SUMMARY: In response to public requests, the Department of Energy (DOE) announces an extension of time to submit comments on the proposed scope, alternatives, and environmental issues to be analyzed in the Programmatic Environmental Impact Statement for the Global Nuclear Energy Partnership (GNEP PEIS). This date has been extended to June 4, 2007, thereby giving an additional 61 days to provide comments.

ADDRESSES: Please direct comments, suggestions, or relevant information on the GNEP PEIS to: Mr. Timothy A. Frazier, GNEP PEIS Document Manager, Office of Nuclear Energy, U.S. Department of Energy, 1000 Independence Avenue, SW., Washington, DC 20585-0119; Telephone: 866-645-7803, Fax: 866-645-7807, e-mail to: GNEP-PEIS@nuclear.energy.gov. Please mark envelopes, faxes, and e-mails: “GNEP PEIS Comments.” Additional information on GNEP may be found at http://www.gnep.energy.gov.

FOR FURTHER INFORMATION CONTACT: For general information on DOE's National Environmental Policy Act (NEPA) process, please contact: Ms. Carol M. Borgstrom, Director, Office of NEPA Policy and Compliance, GC-20, U.S. Department of Energy, 1000 Independence Avenue, SW., Washington, DC 20585-0103, 202-586-4600, or by leaving a message at 1-800-472-2756. Additional information regarding DOE's NEPA activities is available on the DOE NEPA Web site at http://www.eh.doe.gov/nepa. This notice is available at http://www.eh.doe.gov/nepa and http://www.gnep.energy.gov.

SUPPLEMENTARY INFORMATION: On January 4, 2007, DOE published a Notice of Intent (NOI) (72 FR 331) to prepare the GNEP PEIS pursuant to the National Environmental Policy Act of 1969, as amended, 42 U.S.C. 4321 et seq., and the Council on Environmental Quality's (CEQ's) and DOE's regulations implementing NEPA, 40 CFR parts 1500-1508 and 10 CFR part 1021, respectively. With the publication of the NOI, DOE began the PEIS scoping period and invited Federal, state, and local governments, Native American Tribes, industry, other organizations, and the public to provide comments on the proposed scope, alternatives, and environmental issues to be analyzed in the GNEP PEIS. In response to public requests, DOE is now extending the time for submittal of scoping comments an additional 61 days from April 4, 2007, to June 4, 2007. DOE will consider all comments received during the scoping period in preparing the GNEP PEIS. Late comments will be considered to the extent practicable.

Issued in Washington, DC, on March 29, 2007.
Dennis R. Spurgeon,
Assistant Secretary for Nuclear Energy.

[FR Doc. E7-6175 Filed 4-2-07; 8:45 am]

BILLING CODE 6450-01-P